DEPARTMENT OF ENERGY

Federal Energy Regulatory Commission

Notice of Schedule for Environmental Review of the Nexus Gas Transmission and Texas Eastern Appalachian Lease Projects

| Docket Nos.
NEXUS Gas Transmission, LLC | CP16-22-000
Texas Eastern Transmission, LP | CP16-23-000

On November 20, 2015, NEXUS Gas Transmission, LLC (NEXUS) and Texas Eastern Transmission, LP (Texas Eastern) filed applications in Docket Nos. CP16-22-000 and CP16-23-000 requesting a Certificate of Public Convenience and Necessity pursuant to Section 7(c) of the Natural Gas Act to construct, operate, and maintain certain natural gas pipeline facilities. The proposed projects are known as the NEXUS Gas Transmission (NGT) Project and Texas Eastern Appalachian Lease (TEAL) Project (jointly referred to as “Projects”) and would provide transportation of 1.5 million dekatherms per day of Appalachian Basin shale gas to consuming markets in Northern Ohio, Southeastern Michigan, and Midwestern markets, as well as the Dawn Hub in Ontario, Canada.

On December 7, 2015, the Federal Energy Regulatory Commission (FERC or Commission) issued its Notice of Application for the Projects. Among other things, that notice alerted other agencies issuing federal authorizations of the requirement to complete all necessary reviews and to reach a final decision on the request for a federal authorization within 90 days of the date of issuance of the Commission staff's final Environmental Impact Statement (EIS) for the Projects. This instant notice identifies the FERC staff's planned schedule for completion of the final EIS for the Projects, which is based on an issuance of the draft EIS in July 2016.

Schedule for Environmental Review

Issuance of Notice of Availability of the final EIS—November 30, 2016

90-day Federal Authorization Decision Deadline—February 28, 2017

If a schedule change becomes necessary for the final EIS, an additional notice will be provided so that the relevant agencies are kept informed of the Projects' progress.

Project Description

The NGT Project would include about 255 miles of new 36-inch-diameter mainline pipeline, including about 208 miles in Columbiana, Stark, Summit, Wayne, Medina, Lorain, Huron, Erie, Sandusky, Wood, Lucas, Henry, and Fulton Counties, Ohio and about 47 miles in Lenawee, Monroe, Washtenaw, and Wayne Counties, Michigan. The NGT Project also would include about one mile of new 36-inch-diameter interconnecting pipeline in Columbiana County, Ohio. In addition, NEXUS proposes to construct and operate four new compressor stations and other aboveground facilities.

The TEAL Project would include about 4.4 miles of new 36-inch-diameter loop pipeline in Monroe County, Ohio; and about 0.3 mile of new 30-inch-diameter interconnecting pipeline between in Columbiana County, Ohio. The TEAL Project also would include construction of one new compressor station, modification of one existing compressor station, and construction and modification of other aboveground facilities.

Background

On January 9, 2015 and January 26, 2015, the Commission staff granted NEXUS and Texas Eastern's requests to use the FERC's Pre-filing environmental review process and assigned the NGT Project and TEAL Project Docket Nos. PF15-10-000 and PF15-11-000, respectively. On April 8, 2015, the Commission issued a Notice of Intent to Prepare an Environmental Impact Statement for the Planned Nexus Gas Transmission Project and Texas Eastern Appalachian Lease Project, Request for Comments on Environmental Issues, and Notice of Public Scoping Meetings (NOI).

The NOI was issued during the pre-filing review of the Projects and was sent to federal, state, and local government agencies; elected officials; affected landowners; environmental and public interest groups; Native American tribes and regional organizations; commentors and other interested parties; and local libraries and newspapers. Major issues raised during scoping include underground mines, karst geology, topsoil, drain tiles, drinking water, waterbodies, wetlands, vegetation, wildlife, threatened and endangered species, Oak Openings ecosystem, residential development, socioeconomic resources, cultural resources, public safety, air quality, as well as potential cumulative resource impacts and recommended project alternatives.

The U.S. Fish and Wildlife Service and U.S. Environmental Protection Agency are cooperating agencies in the preparation of the EIS.

Additional Information

In order to receive notification of the issuance of the EIS and to keep track of all formal issuances and submittals in specific dockets, the Commission offers a free service called eSubscription (http://www.ferc.gov/docs-filing/esubscription.asp). Additional information about the Project is available from the Commission's Office of External Affairs at (866) 208-FERC or on the FERC Web site (www.ferc.gov). Using the “eLibrary” link, select “General Search” from the eLibrary menu, enter the selected date range and “Docket Number” excluding the last three digits (i.e., CP16-22 or CP16-23), and follow the instructions.

Dated: May 17, 2016.
Nathaniel J. Davis, Sr.,
Deputy Secretary.

[FR Doc. 2016-12047 Filed 5-20-16; 8:45 am]

BILLING CODE 6717-01-P